DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by August 10, 2007.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Written data, comments, or requests for copies of these complete applications should be submitted to the Director (address above).

Applicant: Mesa Garden, Belen, NM, PRT-678845.

The applicant requests renewal of a permit to export the following endangered and threatened cactus species for the purpose of enhancement of the species in the wild: Tobusch fishhook (Ancistrocactus tobuschii); star cactus, (Astrophytum asterias); Nellie cory cactus, (Coryphantha minima syn. Escobaria minima); bunched Cory cactus, (Coryphantha ramillosa); Cochise pincushion cactus, (Coryphantha robbinsorum); Sneed pincushion cactus, (Coryphantha sneedii var. sneedii); Lee pincushion cactus, (Coryphantha sneedii var. leei); Chisos Mountain hedgehog cactus, (Echinocereus chisoensis var. chisoensis); Kuenzler hedgehog cactus, (Echinocereus fendleri var. kuenzleri); black lace cactus, (Echinocereus reichenbachii var. albertii); Arizona hedgehog cactus, (Echinocereus triglochidiatus var. arizonicus, syn E. coccineus var. arizonicus); Davis' green Pitaya, (Echinocereus viridiflorus var. davisii); Lloyd's Mariposa cactus, (Echinomastus mariposensis syn. Neolloydia mariposensis); Brady pincushion cactus, (Pediocactus bradyi); San Rafael cactus, (Pediocactus despainii); Knowlton cactus, (Pediocactus knowltonii); Peebles Navajo cactus, (Pediocactus peeblesianus peeblesianus); Siler pincushion cactus, (Pediocactus sileri syn. Echinocactus and Utahia); Uinta Basin hookless cactus, (Scerocactu glaucus); Mesa Verde cactus, (Sclerocactus mesae-verdae) and Wright fishhook cactus, (Sclerocactus wrightiae). This notification covers activities to be conducted by the applicant over a five-year period.

Applicant: Randy Miller's Predators in Action, Bear City, CA, PRT-157596.

The applicant requests a permit to export to Pretoria, South Africa and re-import three captive born tigers (Panthera tigris) for the purpose of enhancement of the survival of the species.

Applicant: University of Utah/Museum of Natural History, Salt Lake City, UT, PRT-156524.

The applicant requests a permit to export and re-import non-living museum specimens of endangered and threatened species of animals and plants previously accessioned into the applicant's collection for scientific research. This notification covers activities to be conducted by the applicant over a five-year period.

Marine Mammals

The public is invited to comment on the following applications for a permit to conduct certain activities with marine mammals. The applications were submitted to satisfy requirements of the Marine Mammal Protection Act of 1972, as amended (16 U.S.C. 1361 et seq.), and the regulations governing marine mammals (50 CFR part 18). Written data, comments, or requests for copies of the complete applications or requests for a public hearing on these applications should be submitted to the Director (address above). Anyone requesting a hearing should give specific reasons why a hearing would be appropriate. The holding of such a hearing is at the discretion of the Director.

Applicant: Allan Gleaton, Albany, GA, PRT-148754.

The applicant requests a permit to import a polar bear (Ursus maritimus) sport hunted from the Lancaster Sound polar bear population in Canada for personal, noncommercial use.

Dated: June 22, 2007.
Michael L. Carpenter,
Senior Permit Biologist, Branch of Permits, Division of Management Authority.

[FR Doc. E7-13392 Filed 7-10-07; 8:45 am]

BILLING CODE 4310-55-P